DEPARTMENT OF TRANSPORTATION

Federal Aviation Administration

14 CFR Part 97

[Docket No. 30610; Amdt. No. 3271]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 29, 2008. The compliance date for each SIAP, associated Takeoff Minimums, and ODP is specified in the amendatory provisions.

The incorporation by reference of certain publications listed in the regulations is approved by the Directory of the Federal Register as of May 29, 2008.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs are available online free of charge. Visit http://nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under DOT Regulatory Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 16, 2008.
James J. Ballough,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, identified as follows:

* * * Effective Upon Publication

FDC date | State | City | Airport | FDC No. | Subject
04/09/08 | WI | ASHLAND | JOHN F. KENNEDY MEMORIAL | 8/2073 | VOR OR GPS RWY 2, AMDT 5. THIS NOTAM PUBLISHED IN TL 08-11 IS HEREBY RESCINDED IN ITS ENTIRETY.
04/09/08 | WI | ASHLAND | JOHN F. KENNEDY MEMORIAL | 8/2074 | VOR OR GPS RWY 31, AMDT 6. THIS NOTAM PUBLISHED IN TL 08-11 IS HEREBY RESCINDED IN ITS ENTIRETY.
05/01/08 | IN | BRAZIL | BRAZIL CLAY COUNTY | 8/5740 | VOR OR GPS RWY 9, AMDT 7.
05/01/08 | OH | WEST UNION | ALEXANDER SALAMON | 8/5742 | RNAV (GPS) RWY 23, ORIG.
05/01/08 | OH | WEST UNION | ALEXANDER SALAMON | 8/5744 | NDB RWY 23, AMDT 4.
05/01/08 | OK | OKLAHOMA CITY | SUNDANCE AIRPARK | 8/5750 | VOR RWY 17, AMDT 1A.
05/01/08 | OK | MC ALESTER | MC ALESTER REGIONAL | 8/5751 | VOR/DME RWY 19, AMDT 2A.
05/01/08 | IA | ATLANTIC | ATLANTIC MUNI | 8/5763 | TAKEOFF MINIMUMS AND (OBSTACLE) DEPARTURE PROCEDURES AMDT 5.
05/01/08 | IA | BLOOMFIELD | BLOOMFIELD MUNI | 8/5765 | TAKEOFF MINIMUMS AND (OBSTACLE) DEPARTURE PROCEDURES ORIG.
05/01/08 | OK | OKLAHOMA CITY | SUNDANCE AIRPARK | 8/5783 | LOC RWY 17, ORIG-B.
05/01/08 | IA | IOWA CITY | IOWA CITY MUNI | 8/5784 | TAKEOFF MINIMUMS AND (OBSTACLE) DEPARTURE PROCEDURES AMDT 3.
05/01/08 | OK | PAULS VALLEY | PAULS VALLEY MUNI | 8/5785 | RNAV (GPS) RWY 35, ORIG.
05/01/08 | OK | OKLAHOMA CITY | WILEY POST | 8/5790 | VOR RWY 35R, AMDT 3B.
05/01/08 | OK | BUFFALO | BUFFALO MUNI | 8/5791 | NDB A, AMDT 2.
05/05/08 | FL | MARCO ISLAND | MARCO ISLAND | 8/6005 | GPS RWY 35, ORIG.
05/05/08 | FL | MARCO ISLAND | MARCO ISLAND | 8/6006 | VOR/DME RWY 17, AMDT 6A.
05/06/08 | AK | SAND POINT | SAND POINT | 8/6322 | TAKEOFF MINIMUMS AND (OBSTACLE) DEPARTURES, AMDT 2.
05/06/08 | AK | COLD BAY | COLD BAY | 8/6326 | ILS OR LOC/DME RWY 14, AMDT 17A.
05/06/08 | CA | FULLERTON | FULLERTON MUNI | 8/6328 | TAKEOFF MINIMUMS AND (OBSTACLE) DEPARTURES, AMDT 4.
05/07/08 | AK | KENAI | KENAI MUNI | 8/6565 | ILS OR LOC RWY 19R, AMDT 3.
05/07/08 | AK | KENAI | KENAI MUNI | 8/6566 | RNAV (GPS) RWY 1L, AMDT 1.
05/07/08 | AK | KENAI | KENAI MUNI | 8/6567 | VOR RWY 19R, AMDT 18.
05/07/08 | AK | KENAI | KENAI MUNI | 8/6568 | VOR/DME RWY 1L, AMDT 7.
05/07/08 | AK | KENAI | KENAI MUNI | 8/6569 | RNAV (GPS) RWY 19R, AMDT 1.
05/08/08 | CA | SACRAMENTO | SACRAMENTO EXECUTIVE | 8/6696 | ILS OR LOC RWY 2, AMDT 22C.
05/08/08 | KY | LEXINGTON | BLUE GRASS | 8/6744 | ILS OR LOC RWY 4, AMDT 17.
05/08/08 | ME | BIDDEFORD | BIDDEFORD MUNI | 8/6750 | GPS RWY 6, ORIG.
05/08/08 | ME | BIDDEFORD | BIDDEFORD MUNI | 8/6751 | VOR RWY 6, ORIG.
05/08/08 | CT | WINDSOR LOCKS | BRADLEY INTL | 8/6787 | ILS OR LOC RWY 33, AMDT 9.
05/08/08 | HI | LANAI CITY | LANAI | 8/6878 | VOR OR TACAN OR GPS RWY 3, AMDT 6A.
02/28/08 | MT | BILLINGS | BILLINGS LOGAN INTL | 8/6884 | ILS OR LOC RWY 10L, AMDT 24B.
05/09/08 | SD | PIERRE | PIERRE REGIONAL | 8/7011 | RNAV (GPS) RWY 31, ORIG.
05/09/08 | SD | PIERRE | PIERRE REGIONAL | 8/7012 | VOR/DME OR TACAN RWY 7, AMDT 5.
05/09/08 | SD | PIERRE | PIERRE REGIONAL | 8/7013 | VOR OR TACAN RWY 25, ORIG-A.
05/09/08 | SD | PIERRE | PIERRE REGIONAL | 8/7014 | ILS OR LOC RWY 31, AMDT 12.
05/12/08 | KY | LOUISVILLE | LOUISVILLE INTL-STANDIFORD FIELD | 8/7111 | ILS OR LOC RWY 17R, ORIG-B.
05/12/08 | AZ | TUCSON | TUCSON INTL | 8/7141 | RNAV (GPS) RWY 21, ORIG.
05/12/08 | AZ | TUCSON | TUCSON INTL | 8/7142 | VOR/DME OR TACAN RWY 29R, AMDT 2B.
05/12/08 | AZ | TUCSON | TUCSON INTL | 8/7143 | RNAV (GPS) RWY 11R, ORIG-A.
05/12/08 | AZ | TUCSON | TUCSON INTL | 8/7145 | RNAV (GPS) Z RWY 29R, AMDT 2.
05/12/08 | AZ | TUCSON | TUCSON INTL | 8/7146 | RNAV (GPS) Z RWY 11L, AMDT 1.
05/12/08 | AZ | TUCSON | TUCSON INTL | 8/7147 | TAKEOFF MINIMUMS AND (OBSTACLE) DEPARTURE PROCEDURES, AMDT 4.
05/12/08 | AZ | TUCSON | TUCSON INTL | 8/7150 | RNAV (GPS) RWY 3, ORIG-A.
05/12/08 | AZ | TUCSON | TUCSON INTL | 8/7151 | RNAV (GPS) RWY 29L, ORIG-A.
05/13/08 | OR | PORTLAND | PORTLAND INTL | 8/7235 | RNAV (GPS) RWY 28L, ORIG.
05/13/08 | WA | SEATTLE | SEATTLE-TACOMA INTL | 8/7236 | RNAV (GPS) RWY 16L, AMDT 1.
05/13/08 | CA | MODESTO | MODESTO CITY-CO-HARRY SHAM FLD | 8/7237 | VOR/DME RWY 28R, ORIG.
05/13/08 | CA | CHINO | CHINO | 8/7238 | RNAV (GPS) RWY 26R, ORIG-A.
05/13/08 | TX | ALICE | ALICE INTERNATIONAL | 8/7298 | RNAV (GPS) RWY 13, ORIG-A.
05/13/08 | TX | ALICE | ALICE INTERNATIONAL | 8/7299 | VOR RWY 31, AMDT 13.
05/13/08 | TX | ALICE | ALICE INTERNATIONAL | 8/7300 | RNAV (GPS) RWY 31, AMDT 1A.
05/13/08 | TX | ALICE | ALICE INTERNATIONAL | 8/7301 | VOR A, AMDT 15.
05/13/08 | AZ | TUCSON | TUCSON INTL | 8/7338 | VOR OR TACAN RWY 11L, AMDT 1.
05/13/08 | NM | ANGEL FIRE | ANGEL FIRE | 8/7385 | RNAV (GPS) RWY 17, AMDT 1A.
05/13/08 | VA | FREDERICKSBURG | SHANNON | 8/7391 | NDB RWY 24, AMDT 2A.
05/13/08 | VA | FREDERICKSBURG | SHANNON | 8/7393 | GPS RWY 24, ORIG.
05/13/08 | MO | ST. LOUIS | SPIRIT OF ST. LOUIS | 8/7395 | TAKEOFF MINIMUMS AND (OBSTACLE) DEPARTURE PROCEDURES ORIG.
05/13/08 | SD | WATERTOWN | WATERTOWN REGIONAL | 8/7398 | LOC/DME BC RWY 17, AMDT 9A.
05/13/08 | SD | WATERTOWN | WATERTOWN REGIONAL | 8/7399 | ILS RWY 35, AMDT 10A.
05/13/08 | SD | WATERTOWN | WATERTOWN REGIONAL | 8/7400 | VOR/DME OR TACAN RWY 35, AMDT 11A.
05/13/08 | SD | WATERTOWN | WATERTOWN REGIONAL | 8/7401 | NDB OR GPS RWY 35, AMDT 8A.
05/14/08 | IN | INDIANAPOLIS | GREENWOOD MUNI | 8/7449 | RNAV (GPS) RWY 19, AMDT 1.
05/14/08 | FL | MARCO ISLAND | MARCO ISLAND | 8/7461 | GPS RWY 17, ORIG-A.
05/14/08 | AK | BARROW | WILEY POST-WILL ROGERS MEM | 8/7465 | LOC/DME BC RWY 24, AMDT 3B.
05/14/08 | AK | BARROW | WILEY POST-WILL ROGERS MEM | 8/7467 | RNAV (GPS) RWY 6, ORIG-A.
05/15/08 | IA | MASON CITY | MASON CITY MUNI | 8/7521 | ILS OR LOC RWY 36, AMDT 6B.
05/15/08 | IA | MASON CITY | MASON CITY MUNI | 8/7522 | VOR/DME RWY 18, AMDT 4A.
05/15/08 | IA | MASON CITY | MASON CITY MUNI | 8/7523 | LOC BC RWY 18, AMDT 6A.
05/14/08 | MN | MINNEAPOLIS | MINNEAPOLIS-ST. PAUL INTL-WOLD-CHAMBERLAIN | 8/7524 | RNAV (GPS) RWY 4, AMDT 1.
05/15/08 | IA | MASON CITY | MASON CITY MUNI | 8/7525 | RNAV (GPS) RWY 18, AMDT 1.
05/15/08 | IA | MASON CITY | MASON CITY MUNI | 8/7526 | VOR RWY 36, AMDT 6A.
05/15/08 | IA | MASON CITY | MASON CITY MUNI | 8/7527 | RNAV (GPS) RWY 30, ORIG.
05/15/08 | IA | MASON CITY | MASON CITY MUNI | 8/7528 | RNAV (GPS) RWY 36, ORIG-A.
05/15/08 | NM | ALBUQUERQUE | ALBUQUERQUE INTL SUNPORT | 8/7569 | ILS RWY 8, AMDT 5D.
05/15/08 | TX | AMARILLO | TRADEWIND | 8/7575 | TAKE OFF MINIMUMS AND (OBSTACLE) DEPARTURE PROCEDURE AMDT 2.
05/15/08 | TX | ANDREWS | ANDREWS COUNTY | 8/7576 | TAKE OFF MINIMUMS AND (OBSTACLE) DEPARTURE PROCEDURES ORIG.
05/15/08 | WI | PHILLIPS | PRICE COUNTY | 8/7577 | NDB OR GPS RWY 6, AMDT 1.
05/15/08 | WI | PHILLIPS | PRICE COUNTY | 8/7578 | NDB OR GPS RWY 24, AMDT 3.

[FR Doc. E8-11765 Filed 5-28-08; 8:45 am]

BILLING CODE 4910-13-P